DEPARTMENT OF THE INTERIOR

National Park Service

[NPS-WASO-NAGPRA-NPS0027386; PPWOCRADN0-PCU00RP14.R50000]

Notice of Inventory Completion: Fowler Museum at University of California Los Angeles, Los Angeles, CA

AGENCY: National Park Service, Interior.

ACTION: Notice.

SUMMARY: The Fowler Museum at University of California Los Angeles (UCLA) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Fowler Museum at UCLA. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Fowler Museum at UCLA at the address in this notice by April 29, 2019.

ADDRESSES: Wendy G. Teeter, Ph.D., Fowler Museum at UCLA, Box 951549, Los Angeles, CA 90095-1549, telephone (310) 825-1864, email wteeter@arts.ucla.edu.

SUPPLEMENTARY INFORMATION: Notice is here given in accordance with the Native American Graves Protection and Repatriation Act (NAGPRA), 25 U.S.C. 3003, of the completion of an inventory of human remains and associated funerary objects under the control of the Fowler Museum at UCLA, Los Angeles, CA. The human remains and associated funerary objects were removed from multiple sites in Iron County, UT.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Fowler Museum professional staff in consultation with representatives of the Hopi Tribe of Arizona; Kaibab Band of Paiute Indians of the Kaibab Indian Reservation, Arizona; Kewa Pueblo, New Mexico (previously listed as the Pueblo of Santo Domingo); Navajo Nation, Arizona, New Mexico & Utah; Ohkay Owingeh, New Mexico (previously listed as the Pueblo of San Juan); Paiute Indian Tribe of Utah (Cedar Band of Paiutes, Kanosh Band of Paiutes, Koosharem Band of Paiutes, Indian Peaks Band of Paiutes, and Shivwits Band of Paiutes (formerly Paiute Indian Tribe of Utah (Cedar City Band of Paiutes, Kanosh Band of Paiutes, Koosharem Band of Paiutes, Indian Peaks Band of Paiutes, and Shivwits Band of Paiutes)); Pueblo of Acoma, New Mexico; Pueblo of Laguna, New Mexico; Pueblo of San Ildefonso, New Mexico; Pueblo of Santa Ana, New Mexico; Pueblo of Santa Clara, New Mexico; Pueblo of Taos, New Mexico; and the Zuni Tribe of the Zuni Reservation, New Mexico. The Havasupai Tribe of the Havasupai Reservation, Arizona; Pueblo of Cochiti, New Mexico; Pueblo of Isleta, New Mexico; Pueblo of Jemez, New Mexico; Pueblo of Nambe, New Mexico; Pueblo of Picuris, New Mexico; Pueblo of Pojoaque, New Mexico; Pueblo of San Felipe, New Mexico; Pueblo of Sandia, New Mexico; Pueblo of Tesuque, New Mexico; and the Pueblo of Zia, New Mexico, were invited to consult. Hereafter, all tribes listed in this section are referred to as “The Consulted and Invited Tribes.”

History and Description of the Remains

In 1961, 1962, and 1964, human remains representing, at minimum, 15 individuals were removed from Summit (42-IN-40) in Iron County, UT. UCLA Anthropology conducted multiyear research through field schools and excavations directed by Claude N. Warren et al. (1961) and Jay Ruby (1962 and 1964). The site is dated to A.D. 900-1100 based on the diagnostic cultural materials identified. In the 1980s, UCLA Anthropology transferred all its archeological collections to the Fowler Museum at UCLA. The 1961 excavations include a burial containing two infants and fragmentary remains representing, at minimum, four adults. The 1962 excavations identified a burial containing a child and fragmentary remains representing, at minimum, four individuals. The 1964 excavations identified two burials, each containing two adult males and fragmentary remains representing an infant and an adult. No known individuals were identified. The 14 associated funerary objects are two pieces of stone debitage, one hammerstone, one ceramic sherd, four ceramic sherds, three flakes, and three unmodified animal bones. One piece of stone debitage is currently missing from the collections.

In 1954-1960, human remains representing, at minimum, nine individuals were removed from Paragonah (42-IN-43) in Iron County, UT. UCLA Anthropology conducted multiyear research on private land through field schools and excavations directed by Clement Meighan (1954-1956), H. B. Nicholson (1957), and M. B. McKusick (1959-1960). The site is dated to A.D. 1050-1135 based on radiocarbon dating. In the 1980s, UCLA Anthropology transferred all its archeological collections to the Fowler Museum at UCLA. The excavations identified four burials. The human remains include one adult male, one adult female, one infant, one juvenile, four adults of undetermined sex, and one juvenile of undetermined sex. No known individuals were identified. The 586 associated funerary objects are 342 pieces of unmodified animal bone, three bags of unmodified animal bones, 208 ceramic sherds, one ceramic pot, one antler wedge, three red pigment samples, five bags of basketry fragments, one bone awl, two burial stones, five organic fragments, one bag of clay with cordage and feather impressions, one bag of wood fragments, two stone beads, five stone manos, three hammerstones, one stone scraper, one stone flake, and one stone hatch cover fragment. The following 296 associated funerary objects are currently missing from the collections: One bone gaming piece, 24 pieces of animal bone, one worked pottery sherd, 199 pottery sherds and one bag of pottery sherds, 10 pieces of charcoal, nine bags of charcoal, one clay sample, 17 pieces of carbonized seeds, six bags of carbonized seeds, eight pieces of corn cob fragments and two bags of corn cob fragments, one bag of wood fragments, two pieces of clay with wood fragments, four pieces of chipped stone, nine projectile points, and one stone bead. There is a note that materials from Robinson's Silo and House 16 are on permanent loan to the College of Southern Utah since June 1960.

In the summer of 1960, human remains representing, at minimum, four individuals were removed from Evan's Mound (42-IN-44) in Iron County, UT, during a summer field school conducted by UCLA Anthropologist M. B. McKusick. The site is dated to A.D. 1050-1130 based on radiocarbon dating. In the 1980s, UCLA Anthropology transferred all its archeological collections to the Fowler Museum at UCLA. Excavations identified a burial containing, at minimum, two infants, one adult of unknown sex, and one infant of unknown sex. No known individuals were identified. The three associated funerary objects are one lignite bead and two ceramic sherds.

In 1964, human remains representing, at minimum, 19 individuals were removed from Parowan (42-IN-100) in Iron County, UT, during a field school directed by UCLA Anthropologist Jay Ruby. The site is dated to A.D. 980-1413 based on radiocarbon dating. In the 1980s, UCLA Anthropology transferred all its archeological collections to the Fowler Museum at UCLA. Excavations identified four burials containing four infants, one perinatal, two juveniles, ten adults, and one individual that could not be identified further. No known individuals were identified. The 39 associated funerary objects are one bone gaming piece, one piece of modified bone, 12 unmodified animal bone, eight utilized flakes, two hammerstones, three stone cores, 10 ceramic sherds, one corn cob, and one organic fragment.

In 1964, human remains representing, at minimum, one individual were removed from Mortonson's Site (42-IN-103) in Iron County, UT, during a field school directed by UCLA Anthropologist Jay Ruby and Frank Balzer. The site was dated to A.D. 980-1413 by Richard Talbot. In the 1980s, UCLA Anthropology transferred all its archeological collections to the Fowler Museum at UCLA. Excavations identified a burial representing an adult male individual. No known individuals were identified. The three associated funerary objects are unmodified animal bones.

Continuity between the prehistoric Great Basin, Ancestral Puebloan, and Fremont cultures and the modern Paiute of Utah, Hopi and Zuni tribes is evidenced by similarities in material culture, architectural styles, and mortuary practices, as well as biological, geographic, ethnographic, and oral histories. Archeological studies showing continuities of basketry, ceramics and projectile point chronologies indicate a cultural affiliation between the Fremont of this area and Numic-speaking groups identified in the area during the contact period. Physical anthropologists have suggested incipient beginnings for the Fremont with ever increasing influence of Pueblo people. Genetic analyses support a close biological relationship among the Fremont and the modern Hopi and Zuni peoples. In addition, architectural styles, masonry techniques, and certain structure types suggest cultural continuity between prehistoric and modern Pueblo groups. Distinctive cultural patterns, however, indicate that the Fremont were a discrete group among the prehistoric Great Basin or Ancestral Pueblo peoples. Several sites indicate Ancestral Pueblo and Great Basin material culture alongside distinctive Fremont cultural styles, such as signature Snake Valley gray wares and rock art design styles and elements. Finally, the Hopi Tribe, the Paiute Tribe of Utah, and the Pueblo of Zuni have presented oral traditions indicating that ancestral groups and/or specific clans or lineages inhabited this Fremont area from the very earliest of times.

Determinations Made by the Fowler Museum at University of California Los Angeles

Officials of the Fowler Museum at University of California Los Angeles have determined that:

• Pursuant to 25 U.S.C. 3001(9), the human remains described in this notice represent the physical remains of 48 individuals of Native American ancestry.

• Pursuant to 25 U.S.C. 3001(3)(A), the 645 objects described in this notice are reasonably believed to have been placed with or near individual human remains at the time of death or later as part of the death rite or ceremony.

• Pursuant to 25 U.S.C. 3001(2), there is a relationship of shared group identity that can be reasonably traced between the Native American human remains and associated funerary objects and the Hopi Tribe of Arizona; Paiute Indian Tribe of Utah (Cedar Band of Paiutes, Kanosh Band of Paiutes, Koosharem Band of Paiutes, Indian Peaks Band of Paiutes, and Shivwits Band of Paiutes (formerly Paiute Indian Tribe of Utah (Cedar City Band of Paiutes, Kanosh Band of Paiutes, Koosharem Band of Paiutes, Indian Peaks Band of Paiutes, and Shivwits Band of Paiutes)); and the Zuni Tribe of the Zuni Reservation, New Mexico, hereafter referred to as “The Affiliated Tribes”.

Additional Requestors and Disposition

Lineal descendants or representatives of any Indian Tribe or Native Hawaiian organization not identified in this notice that wish to request transfer of control of these human remains and associated funerary objects should submit a written request with information in support of the request to Wendy G. Teeter, Ph.D., Fowler Museum at UCLA, Box 951549, Los Angeles, CA 90095-1549, telephone (310) 825-1864, email wteeter@arts.ucla.edu, by April 29, 2019. After that date, if no additional requestors have come forward, transfer of control of the human remains and associated funerary objects to The Affiliated Tribes may proceed.

The Fowler Museum at University of California Los Angeles is responsible for notifying The Consulted and Invited Tribes that this notice has been published.

Dated: February 25, 2019.
Melanie O'Brien,
Manager, National NAGPRA Program.

[FR Doc. 2019-05998 Filed 3-27-19; 8:45 am]

BILLING CODE 4312-52-P